DEPARTMENT OF COMMERCE

National Oceanic and Atmospheric Administration

[I.D. 120105B]

Fisheries of the Caribbean, Gulf of Mexico, and South Atlantic; Snapper-Grouper, Coastal Pelagics, and Spiny Lobster Fisheries Off the Southern Atlantic States

AGENCY: National Marine Fisheries Service (NMFS), National Oceanic and Atmospheric Administration (NOAA), Commerce.

ACTION: Notice; receipt of an exempted fishing permit application; request for comments.

SUMMARY: NMFS announces the receipt of an application for an exempted fishing permit (EFP) from Lindsey Parker on behalf of the University of Georgia's Marine Extension Service. If granted, the EFP would authorize the applicant, with certain conditions, to collect up to 200 juvenile (undersized) snapper/grouper, 20 adult snapper/grouper, and 10 non-berried spiny lobster from the date of issuance through March 14, 2007. Specimens would be collected from Federal waters off the coast of Georgia during 2005, 2006, and 2007, and utilized by the University of Georgia's Marine Education Center and Aquarium, located on Skidaway Island near Savannah, Georgia, for display and public education.

DATES: Comments must be received no later than 5 p.m., eastern time, on December 21, 2005.

ADDRESSES: Comments on the application may be sent via fax to 727-824-5308 or mailed to: Julie Weeder, Southeast Regional Office, NMFS, 263 13th Avenue South, St. Petersburg, FL 33701. Comments may be submitted by e-mail to: meca.aquarium@noaa.gov. Include the following text in the subject line of the e-mail: “Comment on MECA EFP Application.” The application and related documents are available for review upon written request to the address above or by e-mail to: julie.weeder@noaa.gov.

FOR FURTHER INFORMATION CONTACT: Julie A. Weeder, 727-551-5753; fax 727-824-5308; e-mail julie.weeder@noaa.gov.

SUPPLEMENTARY INFORMATION: The EFP is requested under the authority of the Magnuson-Stevens Fishery Conservation and Management Act (16 U.S.C. 1801 et seq.), and regulations at 50 CFR 600.745(b) concerning exempted fishing.

According to the applicant, The University of Georgia's Marine Education Center and Aquarium is the education branch of the University's Marine Extension Service in the School of Marine Programs. Its purpose is to serve as a resource for students, teachers, and the general public in matters related to Georgia's coastal marine environments. The facility provides a variety of education programs, including short academic classes and summer science camps for school children, classes for college students and teachers, and programs for visiting adult groups. It is free to school groups and is open to the public for a small admission charge.

The proposed collection for public display involves activities otherwise prohibited by regulations implementing the Fishery Management Plans (FMP) for the Snapper-Grouper and Spiny Lobster Fisheries of the South Atlantic Region.

The applicant requires authorization to harvest and possess the following numbers of fishes over the permit period, to be collected over multiple trips: 200 juvenile (undersized) snapper/grouper, 20 adult snapper/grouper, and 10 spiny lobster. Collections would occur in Federal waters off the coast of Georgia from the date of issuance through March 14, 2007. The applicant wishes to make four collection trips over the permit period, each of 2-day duration.

Specimens would be captured with fish trawls (up to 50 foot headrope length, mesh size from 2 1/4 inches to 4 inches, codend mesh size as small as 1 5/8 inches), sea bass traps, hook-and-line, dip nets, and fry nets. The applicant requests exemption from the requirement to use a turtle excluder device (TED) on the trawl, because many of the specimens to be collected would be too large to fit through the TED grid and would be excluded from the sample. The applicant suggests limiting tow times to 30 minutes to address concerns over incidental capture of turtles and plans to trawl in areas the applicant states are well offshore of areas of known turtle abundance.

NMFS finds that this application warrants further consideration, based on a preliminary review, and intends to issue an EFP. Possible conditions the agency may impose on this permit, if granted, include but are not limited to: Reduction in the number of fish to be collected; restrictions on the placement of traps and/or location of trawls; restrictions on the size of fish to be collected; prohibition of the harvest of any fish with visible external tags; specification of locations, dates and/or seasons allowed for collection of particular fish species; and the requirement to carry and follow standard handling and resuscitation guidelines for sea turtles. A final decision on issuance of the EFP will depend on a NMFS review of public comments received on the application, conclusions of environmental analyses conducted pursuant to the National Environmental Policy Act, and consultations with the affected states, the South Atlantic Fishery Management Council, and the U.S. Coast Guard.

Authority: 16 U.S.C. 1801 et seq.

Dated: December 1, 2005.
Alan D. Risenhoover,
Acting Director, Office of Sustainable Fisheries, National Marine Fisheries Service.

[FR Doc. E5-6897 Filed 12-5-05; 8:45 am]

BILLING CODE 3510-22-S